FEDERAL COMMUNICATIONS COMMISSION

47 CFR Part 73

[DA 05-1185, MB Docket No. 01-325, RM-10136]

Television Broadcast Service; Green Bay, WI

AGENCY: Federal Communications Commission.

ACTION: Final rule.

SUMMARY: The Commission, at the request of Green Bay 44, L.L.C., substitutes channel 50+ for channel 44+ at Green Bay, Wisconsin. See 66 FR 63209, December 5, 2001. TV channel 50 can be allotted to Green Bay, Wisconsin, with a plus offset at coordinates 44-30-48 N. and 88-00-24 W. with reduced ERP of 802 kW. Since the community of Green Bay is located within 400 kilometers of the U.S.-Canadian border, concurrence from the Canadian government was obtained for this allotment. With this action, this proceeding is terminated.

DATES: Effective June 20, 2005.

FOR FURTHER INFORMATION CONTACT: Pam Blumenthal, Media Bureau, (202) 418-1600.

SUPPLEMENTARY INFORMATION: This is a synopsis of the Commission's Report and Order, MB Docket No. 01-325, adopted April 27, 2005, and released May 6, 2005. The full text of this document is available for public inspection and copying during regular business hours in the FCC Reference Information Center, Portals II, 445 12th Street, SW., Room CY-A257, Washington, DC, 20554. This document may also be purchased from the Commission's duplicating contractor, Best Copy and Printing, Inc., 445 12th Street, SW., Room CY-B402, Washington, DC 20554, telephone 301-816-2820, facsimile 301-816-0169, or via-e-mail joshir@erols.com.

This document does not contain [new or modified] information collection requirements subject to the Paperwork Reduction Act of 1995 (PRA), Pub. L. 104-13. In addition, therefore, it does not contain any new ore modified “information collection burden for small business concerns with fewer that 25 employees,” pursuant to the Small Business Paperwork Relief Act of 2002, Pub. L. 107-198, see 44 U.S.C. 3506(c)(4).

The Commission will send a copy of this Report & Order, etc. in a report to be sent to Congress and the Government Accountability Office pursuant to the Congressional Review Act, see 5 U.S.C. 801(a)(1)(A).

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Wisconsin, is amended by removing TV channel 44+ and adding TV channel 50+ at Green Bay.

Federal Communications Commission.
Barbara A. Kreisman,
Chief, Video Division, Media Bureau.

[FR Doc. 05-9812 Filed 5-17-05; 8:45 am]

BILLING CODE 6712-01-P